DEPARTMENT OF COMMERCE

Foreign-Trade Zones Board

[S-112-2016]

Foreign-Trade Zone 92—Gulfport, Mississippi; Application for Expansion of Subzone 92B; Huntington Ingalls Industries; Pascagoula, Mississippi

An application has been submitted to the Foreign-Trade Zones (FTZ) Board by the Mississippi Coast Foreign Trade Zone, Inc., grantee of FTZ 92, requesting an expansion of Subzone 92B on behalf of Huntington Ingalls Industries. The application was submitted pursuant to the provisions of the Foreign-Trade Zones Act, as amended (19 U.S.C. 81a-81u), and the regulations of the FTZ Board (15 CFR part 400). It was formally docketed on August 9, 2016.

Subzone 92B was approved on January 17, 1991 (Board Order 506, 56 FR 2740, January 24, 1991) and consists of one site (794 acres) located on the east and west banks of the East Pascagoula River in the City of Pascagoula, some 3 miles south of the US Highway 90 bridge and 12 miles from the Gulf of Mexico. The applicant is requesting authority to expand the subzone to include an additional site: Proposed Site 2 (12.18 acres)—3800 Richard Street in Pascagoula. The existing subzone and the proposed site would be subject to the existing activation limit of FTZ 92. No additional authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is September 26, 2016. Rebuttal comments in response to material submitted during the foregoing period may be submitted during the subsequent 15-day period to October 11, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: August 9, 2016.
Andrew McGilvray,
Executive Secretary.

[FR Doc. 2016-19412 Filed 8-12-16; 8:45 am]

BILLING CODE 3510-DS-P